DEPARTMENT OF LABOR

Employment and Training Administration

[TA-W-81,385]

Pfizer Therapeutic Research, Pfizer Worldwide Reasearch & Development Division, Formerly Known as Warner Lambert Company, Central Nervous System Research Unit (Currently Known as Neuroscience Research Unit), Global External Supply Department, Pharmaceutical Development Department, Groton, Connecticut; Amended Certification Regarding Eligibility To Apply for Worker Adjustment Assistance

In accordance with Section 223 of the Trade Act of 1974, as amended (“Act”), 19 U.S.C. 2273, the Department of Labor (Department) issued a Certification Regarding Eligibility to Apply for Worker Adjustment Assistance on June 13, 2012, applicable to workers of Pfizer Therapeutic Research, Pfizer Worldwide Research & Development Division, formerly known as Warner Lambert Company, Central Nervous System Research Unit, Global External Supply Department, Pharmaceutical Development Department, Groton, Connecticut (Pfizer).

At the request of the state workforce office, the Department reviewed the certification for workers of Pfizer.

The Department has confirmed that the Central Nervous System Research Unit was renamed the Neuroscience Research Unit.

In order to ensure proper worker group coverage, the Department is amending the certification for TA-W-81,385 to reflect the correct name of the subject worker group.

The amended notice applicable to TA-W-81,385 is hereby issued as follows:

All workers of Pfizer Therapeutic Research, Pfizer Worldwide Research & Development Division, formerly known as Warner Lambert Company, Central Nervous System Research Unit (currently known as Neuroscience Research Unit), Global External Supply Department, Pharmaceutical Development Department, Groton, Connecticut, who became totally or partially separated from employment on or after February 27, 2011 through June 13, 2014, and all workers in the group threatened with total or partial separation from employment on June 13, 2012 through June 13, 2014, are eligible to apply for adjustment assistance under Chapter 2 of Title II of the Trade Act of 1974, as amended.

Signed in Washington, DC, this 12th day of October 2012.
Del Min Amy Chen,
Certifying Officer, Office of Trade Adjustment Assistance.

[FR Doc. 2012-26493 Filed 10-26-12; 8:45 am]

BILLING CODE 4510-FN-P